DEPARTMENT OF HEALTH AND HUMAN SERVICES

National Institutes of Health

National Institute on Drug Abuse Amended; Notice of Meeting

Notice is hereby given of a change in the meeting of the National Institute on Drug Abuse Special Emphasis Panel, September 25, 2018, 10:00 a.m. to September 25, 2018, 12:00 p.m., National Institutes of Health, Neuroscience Center, 6001 Executive Boulevard, Rockville, MD 20852 which was published in the Federal Register on August 15, 2018, 83 159 FR 2018-17674.

The meeting date was changed to October 9, 2018. The meeting time did not change. The meeting is closed to the public.

Dated: September 5, 2018.
Natasha M. Copeland,
Program Analyst, Office of Federal Advisory Committee Policy.

[FR Doc. 2018-19608 Filed 9-10-18; 8:45 am]

BILLING CODE 4140-01-P